ENVIRONMENTAL PROTECTION AGENCY

[EPA-R09-OAR-2009-0374; FRL-8936-5]

Adequacy Status of Motor Vehicle Emissions Budgets in Submitted Attainment and Reasonable Further Progress Plan for Sacramento 8-hour Ozone for Transportation Conformity Purposes; California

AGENCY: Environmental Protection Agency (EPA).

ACTION: Notice of adequacy and inadequacy.

SUMMARY: In this notice, EPA is notifying the public that the Agency has found that the motor vehicle emissions budgets for the years 2011, 2014 and 2017 from the Sacramento Regional 8-Hour Ozone Attainment and Reasonable Further Progress Plan (“2009 Sacramento Ozone Plan”), are adequate for transportation conformity purposes. In this notice, EPA is also notifying the public that the Agency has found that the motor vehicle emissions budgets for the year 2018 from the 2009 Sacramento Ozone Plan are inadequate for transportation conformity purposes. The 2009 Sacramento Ozone Plan was submitted to EPA on April 17, 2009 by the California Air Resources Board (CARB) as a revision to the California State Implementation Plan (SIP). As a result of our adequacy findings, the Sacramento Area Council of Governments (SACOG) and the U.S. Department of Transportation must use the adequate budgets and cannot use the inadequate budget in future transportation conformity analyses once the finding becomes effective.

DATES: This finding is effective August 12, 2009.

FOR FURTHER INFORMATION CONTACT: John Kelly, U.S. EPA, Region IX, Air Division AIR-2, 75 Hawthorne Street, San Francisco, CA 94105-3901; (415) 947-4151 or kelly.johnj@epa.gov.

SUPPLEMENTARY INFORMATION: Throughout this document, whenever “we,” “us,” or “our” is used, we mean EPA.

Today's notice is simply an announcement of a finding that we have already made. EPA Region IX sent a letter to CARB on July 16, 2009 stating that the motor vehicle emissions budgets in the submitted 2009 Sacramento Ozone Plan for the reasonable further progress (RFP) milestone years of 2011, 2014 and 2017 are adequate. The finding is available at EPA's conformity Web site: http://www.epa.gov/otaq/stateresources/transconf/adequacy.htm. The adequate motor vehicle emissions budgets are provided in the following table:

Adequate Motor Vehicle Emissions Budgets
[summer planning]
Budget year | Reactive organic gases ¹ (tons per day) | Nitrogen oxides (tons per day)
2011 | 38 | 78
2014 | 32 | 61
2017 | 29 | 48
¹ Reactive organic gases (ROG) is the term used in the plan and is comparable to the Federal term, volatile organic compounds (VOC).

Our letter dated July 16, 2009 also states that budgets for 2018 are inadequate for transportation conformity purposes. The 2018 budgets include estimated emission reductions associated with a number of commitments for future rule adoption that lack specificity. As such, the SACOG would not be able to accurately quantify future emission reductions associated with the commitments. Without additional specificity, it is also unclear how the 2018 budgets are precisely quantified or related to the overall emissions inventory and other measures. Therefore, the 2018 budgets do not meet the adequacy criteria found in 40 CFR 93.118(e)(4)(iii), (iv), and (v). The inadequate motor vehicle emissions budgets are provided in the following table:

Inadequate Motor Vehicle Emissions Budgets
[summer planning]
Budget year | Reactive organic gases ¹ (tons per day) | Nitrogen oxides (tons per day)
2018 | 24 | 34
¹ Reactive organic gases (ROG) is the term used in the plan is comparable to the Federal term, volatile organic compounds (VOC).

Acting in response to a request by CARB for parallel processing of the final, but not yet adopted, 2009 Sacramento Ozone Plan and related budgets, we announced availability of the plan and related budgets on EPA's transportation conformity Web site on March 18, 2009. We received no comments in response to the adequacy review posting. The finding is available at EPA's conformity Web site: http://www.epa.gov/otaq/stateresources/transconf/adequacy.htm.

Transportation conformity is required by Clean Air Act section 176(c). EPA's conformity rule requires that transportation plans, transportation improvement programs, and projects conform to state air quality implementation plans (SIPs) and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4) which was promulgated in our August 15, 1997 final rule (62 FR 43780, 43781-43783). We have further described our process for determining the adequacy of submitted SIP budgets in our July 1, 2004 final rule (69 FR 40004, at 40038), and we used the information in these resources in making our adequacy determination. Please note that an adequacy review is separate from EPA's completeness review, and should not be used to prejudge EPA's ultimate approval action for the SIP. Even if we find a budget adequate, the SIP could later be disapproved.

Authority: 42 U.S.C. 7401 et seq.

Dated: July 16, 2009.
Laura Yoshii,
Acting Regional Administrator, Region IX.

[FR Doc. E9-17926 Filed 7-27-09; 8:45 am]

BILLING CODE 6560-50-P